DEPARTMENT OF TRANSPORTATION

Federal Aviation Administration

14 CFR Parts 5 and 119

[Docket No. FAA-2009-0671; Amendment Nos. 5-1 and 119-17]

RIN 2120-AJ86

Safety Management Systems for Domestic, Flag, and Supplemental Operations Certificate Holders

Correction

In rule document 2015-00143 appearing on pages 1307-1328 in the issue of January 8, 2015, make the following correction:

§ 5.1 [Corrected]

On page 1326, in § 5.1, in the second column, in the second line from the top, “January 8, 2018” should read “March 9, 2018”.

[FR Doc. C1-2015-00143 Filed 1-12-15; 8:45 am]

BILLING CODE 1505-01-D